DEPARTMENT OF TRANSPORTATION

Pipeline and Hazardous Materials Safety Administration

[Docket No. PHMSA-2016-0035; Notice No. 2016-03]

Hazardous Materials: U.S. Designated Agents by Non-Resident Firework Manufacturers Guidance

AGENCY: Pipeline and Hazardous Materials Safety Administration (PHMSA), DOT.

ACTION: Guidance Notice.

SUMMARY: PHMSA is issuing this guidance clarifying that: (1) Firework manufacturers may have more than one U.S. Designated Agent provided they follow certain criteria; and (2) inclusion of electronic contact information can help reduce processing times for approval requests.

DATES: The policy clarification discussed in this document is effective April 19, 2016.

FOR FURTHER INFORMATION CONTACT: Mr. Ryan Paquet, Director, Approvals and Permits Division, Office of Hazardous Materials Safety, (202) 366-4512, PHMSA, 1200 New Jersey Avenue SE., Washington, DC 20590. Correspondence with respect to this notice should be sent to: FIREWORKS@dot.gov, subject line—“U.S. Designated Agents Guidance” or respond to the listed address for Mr. Ryan Paquet.

SUPPLEMENTARY INFORMATION:

I. Introduction

In this action, PHMSA's Office of Hazardous Materials Safety (OHMS) is issuing this Public Outreach Notice to clarify PHMSA's policy regarding the use of U.S. Designated Agents by non-resident firework manufacturers, clarifying the number of U.S. Designated Agents non-resident firework manufacturers may use.

II. Background

Pursuant to 49 CFR 173.56(b), a new explosive (firework) must be examined and assigned a recommended shipping description, division, and compatibility group by an examining agency, which is approved by PHMSA, unless the firework is manufactured to comply with the requirements specified in §§ 173.64 and 173.65. Applicant firework manufacturers that are not residents of the United States are required to designate an individual, a firm, or a domestic corporation that is a permanent resident of the United States to act as the non-resident applicant firework manufacturer's U.S. Designated Agent, in accordance with § 105.40.

III. Action

PHMSA is no longer restricting non-resident firework manufacturers to the use of one U.S. Designated Agent. Since PHMSA allows applicant firework manufacturers to have more than one U.S. Designated Agent, the following criteria will help PHMSA to ensure that it has the correct information regarding a non-resident applicant firework manufacturer's U.S. Designated Agent.

PHMSA is also clarifying in this Notice that, although not required under § 105.40, inclusion of electronic contact information (i.e., email) allows for a more expedited processing of approvals. When PHMSA has only the physical address of the applicant or agent, the process of compiling and manually processing for mailing approvals can add as much as two weeks to the processing time.

Non-Resident Application Requests for Classification will be reviewed when:

The U.S. Designated Agent information listed on the application request matches the information on the U.S. Designated Agent letter enclosed with the request.

Non-Resident Application Requests for Classification may be rejected when:

The U.S. Designated Agent information listed on the application request does not match the information on the U.S. Designated Agent letter enclosed with the request.

The application request indicates that the applicant firework manufacturer has a U.S. Designated Agent, but does not include a U.S. Designated Agent letter.

Detailed information on the requirements for classification and approval of new fireworks is found in 49 CFR 173.56, 173.64, 173.65, the American Pyrotechnics Association's Standard 87-1, and on PHMSA's Web site at: www.phmsa.dot.gov/hazmat. Additional information is available by calling the Hazardous Materials Information Center at (800) 467-4922 or (202) 366-4488.

Issued in Washington, DC, on April 12, 2016, under authority delegated in 49 CFR Part 107.
William S. Schoonover,
Deputy Associate Administrator, Pipeline and Hazardous Materials Safety Administration.

[FR Doc. 2016-09015 Filed 4-18-16; 8:45 am]

BILLING CODE 4910-60-P